AMERICAN BATTLE MONUMENTS COMMISSION

Request for a Revision of a Currently Approved Collection; ABMC Web Survey Amendments

AGENCY: American Battle Monuments Commission (ABMC).

ACTION: Notice of information collection, request for comment.

SUMMARY: This The American Battle Monuments Commission, in accordance with the Paperwork Reduction Act (PRA) of 1995, invites the general public and other Federal agencies to comment on proposed, and continuing information collections, which helps us assess the impact of our information collection requirements and minimize the public's reporting burden. The purpose of this notice is to allow for 60 days of public comment on the proposed revision to the Visitor Web Survey prior to the submission of these information collection request (ICR) to OMB for approval.

DATES: To ensure consideration, comments regarding this proposed information collection must be received on or before May 22, 2024.

ADDRESSES: Interested persons are invited to submit written comments by email to byrnesa@abmc.gov. Please reference Visitor Web Survey in the subject line of your comments. You may also submit comments, identified by Docket Number ABMC-2024-0001, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit confidential information or otherwise sensitive or protected information. You may submit attachments to electronic comments in Microsoft Word, Excel, or Adobe PDF file formats.

FOR FURTHER INFORMATION CONTACT: Ashleigh Byrnes, Deputy Chief of Public Affairs, 703-584-1564, byrnesa@abmc.gov; (Alternate) Lin-Lin Jennifer Li, Chief Information Officer, 703-584-1530, lij@abmc.gov.

SUPPLEMENTARY INFORMATION:

Title: Clearance for the Electronic Survey Collection of Demographic Data on Agency Website Usage and Service Delivery.

Type of Request: Regular submission, Request for a Revision of a Currently Approved Collection.

Abstract: In an effort to improve online visitor experience and usage habits, the American Battle Monuments Commission (ABMC) is conducting a web survey (survey) on abmc.gov. The existing survey collects information to track visitor feedback to enhance web design and content, increase data quality, and operate more efficiently. The survey solicits [or, “provides ABMC”] information on visitation to ABMC's physical locations, functionality of the website, and overall experience.

The survey collected roughly 500 responses in 2023. The sample size increased to this point due to survey look and feel enhancements that launched on July 12, 2023. The visual appearance of the survey was realigned with the color palette and design of the abmc.gov site to make the survey more appealing to respondents. The official sampling percentage for the survey did not change, but collection did improve as a result of these enhancements. Prior to that, the survey sample size was fairly consistent over time.

The survey is designed to allow for incorporation of new content based on previous visitor feedback and agency objectives. New questions pertaining to demographic information must be submitted to the OMB for approval.

The survey currently collects the following information from site visitors:

• Visitation habits to ABMC physical locations (cemeteries, memorials, monuments, markers).

• Visitation habits to abmc.gov.

• Purpose of use for visiting abmc.gov.

• Applicable categories of interest associated with ABMC and abmc.gov (historical research, genealogy, media, education).

• Website functionality and usability.

• Overall user experience.

In accordance with federal guidance to advance diversity, equity, inclusion and accessibility, ABMC proposes to incorporate additional voluntary survey questions to collect data on select demographic characteristics for web visitors, including:

• Age range and sex.

• Ethnicity or race.

• Veteran status.

• Language.

• Disability and accessibility needs.

This feedback will provide insights into customer or stakeholder perceptions, experiences, and expectations, taking into account the diverse preferences and needs of the Agency's audience. If this information is not collected, vital feedback from customers and stakeholders on the Agency's services will be unavailable. Information gathered is intended to be used only internally for general service improvement and program management purposes and is not intended for release outside of the agency.

Method of Collection: The survey collection is conducted electronically using a web-based questionnaire, and randomly samples 50% of desktop website visitors who have visited 2 or more pages. Sampled visitors are presented with an invitation to take the survey, which they can accept or decline. The survey also uses cookies to ensure that repeat visitors are not continuously asked to take the survey. Currently, these cookies are set to offer the ABMC survey every 90 days. Visitors who have been to the site and have accepted, declined, or abandoned a survey will not be invited again for 90 days in that browser, on that device, unless they clear their cookies.

Type of Respondents: Individuals and Households, Business and Organizations, State, Local or Tribal Government.

Estimate of Burden per Response: 10 minutes.

Estimated Number of Respondents: 500.

Estimated Total Annual Burden on Respondents: 83 hours per year.

Respondent's Obligation: Optional.

Request for Comments: Comment is invited on: (1) Whether this collection of information is necessary for the stated purposes and the proper performance of the functions of the Agency, including whether the information will have practical utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission to the Office of Management and Budget for approval.

Kelly Dove,
Chief Human Capital Officer, ABMC.

[FR Doc. 2024-07708 Filed 4-24-24; 8:45 am]

BILLING CODE P